DEPARTMENT OF JUSTICE

Notice of Lodging of Consent Decree Under the Comprehensive Environmental Response, Compensation, and Liability Act

Pursuant to 28 CFR 50.7, notice is hereby given that on April 23, 2003, a proposed Consent Decree in United States and State of Arizona v. Arizona Public Service Company, Civil Action Number 03-0767-PHX-PGR, was lodged with the United States District Court for the District of Arizona.

In the civil action, the United States and the State of Arizona alleged claims against Arizona Public Service Company (“APS”) under Section 107 of the Comprehensive Environmental Response, Compensation, and Liability Act (“CERCLA”), 42 U.S.C. 9607, for the recovery of costs incurred in responding to a release or threatened release of hazardous substances at and from the South Indian Bend Wash Superfund Site in Tempe, Arizona (the “Site”). The proposed Consent Decree requires APS to pay the United States $2,320,000 and to pay the Arizona Department of Environmental Quality (“ADEQ”) $400,000.

The Department of Justice will receive for a period of thirty (30) days from the date of this publication comments relating to the Consent Decree. Comments should be addressed to the Assistant Attorney General, Environment and Natural Resources Division, P.O. Box 7611, U.S. Department of Justice, Washington, DC 20044-7611, and should refer to United States and State of Arizona v. Arizona Public Service Company, DOJ Ref. # 90-11-2-413/3.

The Consent Decree may be examined at the Office of the United States Attorney, Two Renaissance Square, 40 N. Central, Suite 1200, Phoenix, Arizona and at U.S. EPA Region 9, 75 Hawthorne Street, San Francisco, CA 94105. During the public comment period, the Consent Decree may also be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $8.00 (25 cents per page reproduction cost) payable to the U.S. Treasury.

Ellen M. Mahan,
Assistant Chief, Environmental Enforcement Section, Environment and Natural Resources Division.

[FR Doc. 03-12788 Filed 5-21-03; 8:45 am]

BILLING CODE 4410-15-M